OFFICE OF PERSONNEL MANAGEMENT

Submission for OMB Review: Comment Request for Review of a Revised Information Collection: Procedures for Submitting Compensation and Leave Claims; OPM Form 1673

AGENCY: U.S. Office of Personnel Management.

ACTION: Notice.

SUMMARY: In accordance with the Paperwork Reduction Act of 1995 (Pub. L. 104-13, May 22, 1995), this notice announces that the U.S. Office of Personnel Management (OPM) submitted to the Office of Management and Budget (OMB) a request for review of a revised information collection. OPM Form 1673, Procedures for Submitting Compensation and Leave Claims, is used to collect information from current and former Federal civilian employees who are submitting a claim for compensation and/or leave. OPM needs this information in order to adjudicate the claim.

We received no comments on our 60-day notice on OPM Form 1673, published in the Federal Register on August 24, 2004.

Approximately 40 claims are submitted annually. It takes approximately 60 minutes to complete the form. The annual estimated burden is 40 hours.

For copies of this proposal, contact Mary Beth Smith-Toomey on (202) 606-8358, Fax (202) 418-3251, or e-mail to mbtoomey@opm.gov. Please include a mailing address with your request.

DATES: Comments on this proposal should be received within 30 calendar days from the date of this publication.

ADDRESSES: Send or deliver comments to—Robert D. Hendler, Program Manager, Center for Merit Systems Compliance, Division for Human Capital Leadership and Merit System Compliance Group, U.S. Office of Personnel Management, 1900 E Street, NW., Room 6484, Washington, DC 20415; and Brenda Aguilar, OPM Desk Officer, Office of Information and Regulatory Affairs, Office of Management and Budget, New Executive Office Building, NW., Room 10235, Washington, DC 20503.

U.S. Office of Personnel Management.
Dan G. Blair,
Acting Director.

[FR Doc. 05-8977 Filed 5-5-05; 8:45 am]

BILLING CODE 6325-43-P